DEPARTMENT OF EDUCATION

Privacy Act of 1974; System of Records

AGENCY: Office of Inspector General, Department of Education.

ACTION: Notice of an altered system of records.

SUMMARY: In accordance with the Privacy Act of 1974, as amended (Privacy Act), the Department of Education (Department) publishes this notice proposing to revise the system of records notice for the Investigative Files of the Inspector General (18-10-01), 68 FR 38154 (June 26, 2003). The Department proposes to amend this system of records notice by: (1) Adding a new routine use to allow reporting on the activities of the Inspector General regarding American Recovery and Reinvestment Act funds to the Recovery Accountability and Transparency Board (RATB) as established by the American Recovery and Reinvestment Act of 2009 (Pub. L. 111-5); (2) adding a new routine use to allow for disclosure of information in connection with response and remedial efforts in the event of a data breach in accordance with Office of Management and Budget (OMB) requirements in M-07-16 (May 22, 2007); (3) revising routine uses “(12) Disclosure to the President's Council on Integrity and Efficiency” and “(13) Disclosure for Qualitative Assessment Reviews” to allow reporting on the activities of the Inspector General to the Council of Inspectors General on Integrity and Efficiency (formerly the President's Council on Integrity and Efficiency) as established by the Inspector General Reform Act of 2008 (Pub. L. 110-409); (4) revising the routine use “(4) Disclosure to Public and Private Sources in Connection with the Higher Education Act of 1965, as Amended (HEA)” to allow the disclosure of information to an educational institution or a school that is or was a party to an agreement with the Secretary of Education pursuant to the HEA; and (5) updating the system location addresses. This system of records provides essential support for investigative activities of the Office of Inspector General (OIG) relating to the Department's programs and operations, enabling the OIG to secure and maintain the necessary information and to coordinate with other law enforcement agencies as appropriate.

DATES: The Department seeks comments on the proposed, new routine uses of the information in the altered system of records described in this notice, in accordance with the requirements of the Privacy Act. We must receive your comments on or before July 14, 2010.

The Department filed a report describing the altered system of records covered by this notice with the Chair of the Senate Committee on Homeland Security and Governmental Affairs, the Chair of the House Committee on Oversight and Government Reform, and the Administrator of the Office of Information and Regulatory Affairs, OMB on [DRS: Insert date.]. This altered system of records will become effective at the later date of—(1) The expiration of the 40-day period for OMB review on [DRS: Insert date.] unless OMB waives ten days of its 40-day review period in which case on [DRS: Insert date.], or (2) July 14, 2010, unless the system of records needs to be changed as a result of public comment or OMB review.

ADDRESSES: Address all comments about this altered system of records to the Assistant Inspector General for Investigation Services, Office of Inspector General, U.S. Department of Education, 400 Maryland Avenue, SW., Room 4132, PCP Building, Washington, DC 20202-1510. If you prefer to send your comments by e-mail, use the following address: comments@ed.gov.

You must include the term “OIG Investigative Files” in the subject line of your electronic message.

During and after the comment period, you may inspect all public comments about this notice at the U.S. Department of Education, PCP Building, Room 8166, 500 12th Street, SW., Washington, DC 20202-0028, between the hours of 8 a.m. and 4:30 p.m., Eastern time, Monday through Friday of each week except Federal holidays.

Assistance to Individuals With Disabilities in Reviewing the Rulemaking Record

On request we will supply an appropriate accommodation or auxiliary aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Shelley Shepherd, Assistant Counsel to the Inspector General, 400 Maryland Avenue, SW., PCP building, room 8166, Washington, DC 20202-1510. Telephone: (202) 245-7077. If you use a telecommunications device for the deaf (TDD), you can call the Federal Relay Service (FRS), toll free, at 1-800-877-8339.

SUPPLEMENTARY INFORMATION:

Introduction

The Privacy Act requires the Department to publish in the Federal Register this notice of an altered system of records (5 U.S.C. 552a(e)(4) and (11)). The Department's regulations implementing the Privacy Act are contained in the Code of Federal Regulations (CFR) in 34 CFR part 5b.

The Privacy Act applies to a record about an individual that contains individually identifiable information that is retrieved by a unique identifier associated with each individual, such as a name or Social Security number. The information about each individual is called a “record,” and the system, whether manual or computer-based, is called a “system of records.”

The Privacy Act requires each agency to publish a notice of a system of records in the Federal Register and prepare a report to OMB, whenever the agency publishes a new system of records or makes a significant change to an established system of records. Each agency is also required to send copies of the report to the Chair of the Senate Committee on Homeland Security and Governmental Affairs, and the Chair of the House Committee on Oversight and Government Reform. The report is intended to permit an evaluation of the probable or potential effect of the proposal on the privacy rights of individuals.

Accessible Format: Individuals with disabilities can obtain this document in an accessible format (e.g., braille, large print, audiotape, or computer diskette) on request to the contact person listed under FOR FURTHER INFORMATION CONTACT.

Electronic Access to This Document

You can view this document, as well as all other documents of this Department published in the Federal Register, in text or Adobe Portable Document Format (PDF), on the Internet at the following site: http://www.ed.gov/news/fedregister/index.html.

To use PDF you must have Adobe Acrobat Reader, which is available free at this site.

Note: The official version of this document is the document published in the Federal Register. Free Internet access to the official edition of the Federal Register and the Code of Federal Regulations is available on GPO Access at: http://www.gpoaccess.gov/nara/index.html.

Dated: June 9, 2010.
Kathleen S. Tighe,
Inspector General.

For the reasons discussed in the preamble, the Inspector General of the U.S. Department of Education publishes a notice of an altered system of records. The following amendments are made in the Notice of an Altered System of Records published in the Federal Register on June 26, 2003 (68 FR 38154-38158):

1. On page 38155, 2nd column, under the heading SYSTEM LOCATION(S), the paragraph is revised to read as follows:

SYSTEM LOCATION(S):

Dell Services, Building K, 2nd Floor, Rack: K2AG57, 2300 West Plano Parkway, Plano, Texas 75075-8427.

2. On page 38156, 2nd column, under the paragraph labeled “(4) Disclosure to Public and Private Sources in Connection with the Higher Education Act of 1965, as Amended (HEA),” the paragraph is revised to read as follows:

(4) Disclosure to Public and Private Sources in Connection with the Higher Education Act of 1965, as Amended (HEA). The OIG may disclose information from this system of records as a routine use to facilitate compliance with program requirements to any accrediting agency that is or was recognized by the Secretary of Education pursuant to the HEA; to any educational institution or school that is or was a party to an agreement with the Secretary of Education pursuant to the HEA; to any guaranty agency that is or was a party to an agreement with the Secretary of Education pursuant to the HEA; or to any agency that is or was charged with licensing or legally authorizing the operation of any educational institution or school that was eligible, is currently eligible, or may become eligible to participate in any program of Federal student assistance authorized by the HEA.

3. On page 38157, 1st column, under the paragraph labeled “(12) Disclosure to the President's Council on Integrity and Efficiency,” the paragraph is revised to read as follows:

(12) Disclosure to the Council of the Inspectors General on Integrity and Efficiency (CIGIE). The OIG may disclose records as a routine use to members and employees of the CIGIE for the preparation of reports to the President and Congress on the activities of the Inspectors General.

4. On page 38157, 1st column, under the paragraph labeled “(13) Disclosure for Qualitative Assessment Reviews,” the paragraph is revised to read as follows:

(13) Disclosure for Qualitative Assessment Reviews. The OIG may disclose records as a routine use to members of the CIGIE, the DOJ, the U.S. Marshals Service, or any Federal agency for the purpose of conducting qualitative assessment reviews of the investigative operations of the Department of Education, Office of Inspector General to ensure that adequate internal safeguards and management procedures are maintained.

5. On page 38157, 1st column, after the paragraph labeled “(13) Disclosure for Qualitative Assessment Reviews,” add new paragraphs (14) and (15) to read as follows:

(14) Disclosure to the Recovery Accountability and Transparency Board (RATB). The OIG may disclose records as a routine use to the RATB for purposes of coordinating and conducting oversight of American Recovery and Reinvestment Act funds to prevent fraud, waste, and abuse.

(15) Disclosure in the Course of Responding to Breach of Data. The OIG may disclose records from this system to appropriate agencies, entities, and persons when (a) the OIG suspects or has confirmed that the security or confidentiality of information in the system of records has been compromised; (b) the OIG has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the OIG's efforts to respond to the suspected or confirmed compromise and prevent, minimize, or remedy such harm.

6. On page 38158, 1st column, under the heading ADDITIONAL SYSTEM LOCATIONS, the paragraphs are revised to read as follows:

Office of Inspector General, U.S. Department of Education, J.W. McCormack Post Office and Courthouse, 5 Post Office Square, Suite 850, Boston, MA 02110-1491.

Office of Inspector General, U.S. Department of Education, 32 Old Slip, 26th Floor, New York, NY 10005-2500.

Office of Inspector General, U.S. Department of Education, The Wanamaker Building, 100 Penn Square East, Suite 502, Philadelphia, PA 19107-3323.

Office of Inspector General, U.S. Department of Education, 1000 Liberty Avenue, Room 1503, Pittsburgh, PA 15222-4004.

Office of Inspector General, U.S. Department of Education, Atlanta Federal Center, 61 Forsyth Street, Room 18T71, Atlanta, GA 30303-3104.

Office of Inspector General, U.S. Department of Education, 500 W. Madison Street, Suite 1414, Chicago, IL 60661-7204.

Office of Inspector General, U.S. Department of Education, 1999 Bryan Street, Suite 1430, Dallas, TX 75201-3136.

Office of Inspector General, U.S. Department of Education, 8930 Ward Parkway, Suite 2401, Kansas City, MO 64114-3302.

Office of Inspector General, U.S. Department of Education, One World Trade Center, Suite 2300, Long Beach, CA 90831-0023.

Office of Inspector General, U.S. Department of Education, Cesar E. Chavez Memorial Building, 1244 Speer Boulevard, Suite 604A, Denver, CO 80204-3582.

Office of Inspector General, U.S. Department of Education, Jacaranda Executive Court, 7890 Peters Road, Suite G-100, Plantation, FL 33324-4028.

Office of Inspector General, U.S. Department of Education, Federal Building and Courthouse, 150 Carlos Chardon Avenue, Room 747, Box 772, Hato Rey, PR 00918-1721.

[FR Doc. 2010-14238 Filed 6-11-10; 8:45 am]

BILLING CODE 4000-01-P